ENVIRONMENTAL PROTECTION AGENCY

40 CFR Part 60

[EPA-R01-OAR-2018-0849; FRL-9989-00-Region 1]

Notice of Delegation of Authority; Connecticut; New Source Performance Standards for Stationary Combustion Turbines

AGENCY: Environmental Protection Agency (EPA).

ACTION: Delegation of authority.

SUMMARY: On December 13, 2018, the Environmental Protection Agency (EPA) sent the State of Connecticut a letter approving Connecticut's request for delegation of the New Source Performance Standards for Stationary Combustion Turbines. To inform regulated facilities and the public of the EPA's approval of Connecticut's request for delegation of authority to implement and enforce these standards, the EPA is making available a copy of EPA's letter to Connecticut through this document.

DATES: On December 13, 2018, the EPA sent the State of Connecticut a letter approving Connecticut's request for delegation of the New Source Performance Standards for Stationary Combustion Turbines.

ADDRESSES: The EPA has established a docket for this action under Docket Identification No. EPA-R01-OAR-2018-0849. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Office of Ecosystem Protection, Air Permits, Toxics, and Indoor Programs Unit, 5 Post Office Square—Suite 100, Boston, MA. The EPA requests that if at all possible, you contact the contact listed in the FOR FURTHER INFORMATION CONTACT section to schedule your inspection. The Regional Office's official hours of business are Monday through Friday, 8:30 a.m. to 4:30 p.m., excluding legal holidays.

FOR FURTHER INFORMATION CONTACT: Eric Wortman, Air Permits, Toxics, and Indoor Programs Unit, Office of Ecosystem Protection, U.S. Environmental Protection Agency, EPA Region 1, 5 Post Office Square (OEP05-2), Boston, MA 02109-3912, telephone number (617) 918-1624, fax number (617) 918-0624, email wortman.eric@epa.gov.

SUPPLEMENTARY INFORMATION: In a letter dated November 8, 2018, the Connecticut Department of Energy and Environmental Protection (CT DEEP) requested full delegation to implement and enforce the New Source Performance Standards for Stationary Combustion Turbines at 40 CFR part 60, subpart KKKK (NSPS KKKK) for all affected sources in Connecticut. On December 13, 2018, the EPA sent CT DEEP a letter approving the request for delegation to implement and enforce NSPS KKKK as specified by CT DEEP in its request to the EPA. The text of the EPA's December 13, 2018 letter to CT DEEP is reproduced below:

Robert Kaliszewski, Deputy Commissioner

Department of Energy and Environmental Protection

79 Elm Street

Hartford, CT 06106-5127

Dear Deputy Commissioner Kaliszewski:

In your letter dated November 8, 2018, the Connecticut Department of Energy and Environmental Protection (CT DEEP) requested full delegation to implement and enforce the New Source Performance Standards for Stationary Combustion Turbines at 40 CFR part 60, subpart KKKK (NSPS KKKK) for all affected sources in Connecticut.

The EPA has reviewed the pertinent regulations of the State of Connecticut and has determined they provide adequate authority and procedures for implementation of NSPS KKKK. In light of these authorities and related information in your letter dated November 8, 2018, the EPA approves your request for full delegation of authority to implement and enforce the provisions of NSPS KKKK.

This delegation of authority is subject to the following terms and conditions:

• CT DEEP will assume primary responsibility for enforcement of NSPS KKKK;

• CT DEEP will not grant a variance or waiver from compliance with applicable emission standards of NSPS KKKK;

• CT DEEP will communicate with EPA Region 1 to keep each office fully informed regarding the current compliance status of subject sources in Connecticut and interpretation of applicable regulations;

• CT DEEP will require all NSPS KKKK sources to adhere to all the reporting, monitoring, and recordkeeping requirements specified in NSPS KKKK;

• CT DEEP will notify the EPA of any variation from emission test methods and continuous emission monitoring requirements specified in NSPS KKKK. Written approval from the EPA must be obtained by CT DEEP prior to the granting or the implementation of such variations; and

• If the Regional Administrator determines that CT DEEP is not adequately implementing or enforcing NSPS KKKK, the Regional Administrator may revoke delegation of NSPS KKKK in whole or part.

Because this delegation is effective immediately, there is no need for CT DEEP to notify the EPA of its acceptance. Unless the EPA receives written notice of objection from CT DEEP within ten days from the date of this letter, CT DEEP will be deemed to have accepted all of the terms as stated herein. The EPA will publish a notice of delegation of authority in the Federal Register informing the public of this action.

The EPA appreciates CT DEEP's efforts to accept delegation to implement and enforce the provisions of NSPS KKKK. If you have any questions regarding this matter, please don't hesitate to contact Eric Wortman at (617) 918-1624.

Sincerely,

Alexandra Dapolito Dunn,

Regional Administrator

This document informs regulated facilities and the public of the EPA's approval of Connecticut's request for delegation of authority to implement and enforce NSPS KKKK. The delegation of authority was effective on December 13, 2018.

List of Subjects in 40 CFR Part 60

Environmental protection, Administrative practice and procedure, Air pollution control, Hazardous substances, Intergovernmental relations, Reporting and record keeping requirements.

Authority: This action is issued under the authority of section 111 of the Clean Air Act, as amended, 42 U.S.C. 7412.

Dated: February 7, 2019.
Deborah Szaro,
Acting Regional Administrator, EPA Region 1.

[FR Doc. 2019-02202 Filed 2-13-19; 8:45 am]

BILLING CODE 6560-50-P